DEPARTMENT OF JUSTICE

Antitrust Division

Notice Pursuant to the National Cooperative Research and Production Act of 1993—AAF Association, Inc.

Notice is hereby given that, on March 15, 2002, pursuant to section 6(a) of the National Cooperative Research and Production Act of 1993, 15 U.S.C. 4301 et seq. (“the Act”), AAF Association, Inc. has filed written notifications simultaneously with the Attorney General and the Federal Trade Commission disclosing changes in its membership status. The notifications were filed for the purpose of extending the Act's provisions limiting the recovery of antitrust plaintiffs to actual damages under specified circumstances. Specifically, VRT (Vlaamse Radio-en Televisioeomroep), Brussels, Belgium has been added as a party to this venture. Also, NL Technology, North Andover, MA has been dropped as a party to this venture.

No other changes have been made in either the membership or planned activity of the group research project. Membership in this group research project remains open, and AAF Association, Inc. intends to file additional written notification disclosing all changes in membership.

On March 28, 2000, AAF Association, Inc. filed its original notification pursuant to section 6(a) of the Act. The Department of Justice published a notice in the Federal Register pursuant to section 6(b) of the Act on June 29, 2000 (65 FR 40127).

The last notification was filed with the Department on December 31, 2001. A notice was published in the Federal Register pursuant to section 6(b) of the Act on February 6, 2002 (67 FR 5617).

Constance K. Robinson,
Director of Operations, Antitrust Division.

[FR Doc. 02-9695 Filed 4-19-02; 8:45 am]

BILLING CODE 4410-11-M